DEPARTMENT OF COMMERCE

Office of the Secretary

Agency Information Collection Activities; Submission to the Office of Management and Budget (OMB) for Review and Approval; Comment Request; Generic Clearance Improving Customer Experience: OMB Circular A-11, Section 280 Implementation

AGENCY: Office of the Secretary, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 24, 2026.

ADDRESSES: Interested persons are invited to submit written comments by mail to the Departmental Paperwork Reduction Act Clearance Officer, Department of Commerce, 14th and Constitution Avenue NW, Washington, DC 20230 or via the internet at PRAcomments@doc.gov. Please reference OMB Control Number 0690-0035 in the subject line of your comments. Do not submit Confidential Business Information or otherwise sensitive or protected information.

FOR FURTHER INFORMATION CONTACT: Requests for additional information or specific questions related to collection activities should be directed to the Departmental Paperwork Reduction Act Clearance Officer, Department of Commerce, 14th and Constitution Avenue NW, Washington, DC 20230 or via the internet at PRAcomments@doc.gov.

SUPPLEMENTARY INFORMATION:

I. Abstract

This is a request for an extension of a currently approved information collection.

In March 2018, the Administration of President Trump launched the President's Management Agenda (PMA) and established new Cross-Agency Priority (CAP) Goals. Excellent service was established as a core component of the mission, service, stewardship model that frames the entire PMA, embedding a customer-focused approach in all of the PMA's initiatives. This model was also included in the 2018 update of the Federal Performance Framework in Circular A-11, ensuring `excellent service' as a focus in future agency strategic planning efforts. The PMA included a CAP Goal on Improving Customer Experience with Federal Services, with a primary strategy to drive improvements within twenty-five of the nation's highest impact programs. This effort is supported by an interagency team and guidance in Circular A-11 requiring the collection. of customer feedback data and increasing the use of industry best practices to conduct customer research.

The continuation of this information collection will enable the Department of Commerce to act in accordance with OMB Circular A-11 Section 280 to ultimately transform the experience of its customers to improve both efficiency and mission delivery and increase accountability by communicating about these efforts with the public.

Commerce will collect, analyze, and interpret information gathered through this generic clearance to identify services' accessibility, navigation, and use by customers, and make improvements in service delivery based on customer insights gathered through developing an understanding of the user experience interacting with Government. To support this, OMB Circular A-11 Section 280 established government-wide standards for mature customer experience organizations in government and measurement. To enable Federal programs to deliver the experience taxpayers deserve, they must undertake three general categories of activities: conduct ongoing customer research, gather, and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. DOC will limit its inquiries to data collections that solicit strictly voluntary opinions or responses. Steps will be taken to ensure anonymity of respondents in each activity covered by this request.

All High Impact Service Providers listed at https://www.performance.gov/cx/HISPList.pdf are required to ask questions in these domains of their customers. However, all agencies are encouraged to conduct their customer experience measurements in line with these standard measures.

As discussed in OMB guidance, agencies should identify their highest-impact customer journeys (using customer volume, annual program cost, and/or knowledge of customer priority as weighting factors) and select touchpoints/transactions within those journeys to collect. feedback. For the purposes of this collection, Federal customer experience will focus on real-time transaction-level measures.

The results will be used to improve the delivery of Federal services and programs. It will also provide government-wide data on customer experience that can be displayed on www.performance.gov to help build transparency and accountability of Federal programs to the customers they serve.

As a general matter, these information collections will not result in any new system of records containing privacy information and will not ask questions of a sensitive nature, such as sexual behavior and attitudes, and religious beliefs.

The Department of Commerce will only submit collections under this generic clearance if it meets the following conditions:

The collections are voluntary.

The collections are low-burden for respondents (based on considerations of total burden hours or burden hours per respondent) and are low-cost for both the respondents and the Federal Government.

The collections are non-controversial and do not raise issues of concern to other Federal agencies. Any collection is targeted to the solicitation of opinions from respondents who have experience with the program or may have experience with the program in the near future. Personally identifiable information (PII) is collected only to the extent necessary and is not retained. Information gathered is intended to be used for general service improvement and program management purposes.

Upon agreement between OMB and the agency all or a subset of information may be released as part of A-11, Section 280 requirements only on performance.gov. Summaries of customer research and user testing activities may be included in public-facing customer journey maps.

Additional release of data must be done coordinated with OMB. These collections will allow for ongoing, collaborative, and actionable communications between the Agency, its customers and stakeholders, and OMB as it monitors agency compliance on Section 280. These responses will inform efforts to improve or maintain the quality of service offered to the public. If this information is not collected, vital feedback from customers and stakeholders on services will be unavailable.

II. Method of Collection

The Department of Commerce will collect this information by electronic means, when possible, as well as by mail, fax, telephone, technical discussions; and customer experience activities such as feedback surveys, focus groups, user testing, and in-person interviews. The Department of Commerce may also utilize observational techniques to collect this information.

III. Data

OMB Control Number: 0690-0035.

Form Number(s): None.

Type of Review: Regular submission, extension without change of a currently approved collection.

Affected Public: Collections will be targeted to the solicitation of opinions from respondents who have experience with the program or may have experience with the program in the near future. For the purposes of this request, “customers” are individuals, businesses, and organizations that interact with a Federal Government agency or program, either directly or via a Federal contractor. This could include individuals or households; businesses or other for-profit organizations; not-for-profit institutions; State, local or tribal governments; Federal government; and Universities.

Estimated Number of Respondents: 100,000.

Estimated Time per Response: Varied, dependent upon the data collection method used. The possible response time to complete a questionnaire or survey may be 3 minutes or up to 2 hours to participate in an interview or focus group.

Estimated Total Annual Burden Hours: 13,863.

Estimated Total Annual Cost to Public: Zero.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-01254 Filed 1-22-26; 8:45 am]

BILLING CODE 3510-17-P